DEPARTMENT OF COMMERCE

International Trade Administration

[A-427-814]

Notice of Extension of Time Limit of the Preliminary Results of Antidumping Duty Administrative Review 2002-2003: Stainless Steel Sheet and Strip in Coils From France

AGENCY: Import Administration, International Trade Administration, Department of Commerce.

SUMMARY: The Department of Commerce (“the Department”) is extending the time limit of the preliminary results of the Antidumping Duty Administrative Review of Stainless Steel Sheet and Strip in Coils from France.

EFFECTIVE DATE: February 26, 2004.

FOR FURTHER INFORMATION CONTACT: Rachel Kreissl, AD/CVD Enforcement, Group III, Office 9, Import Administration, International Trade Administration, U.S. Department of Commerce, 14th Street and Constitution Avenue, NW., Washington DC 20230; telephone: (202) 482-0409.

Background

On July 2, 2003, the Department published a notice of opportunity to request an administrative review of the antidumping duty order on stainless steel sheet and strip in coils from France (see Antidumping or Countervailing Duty Order, Finding, or Suspended Investigation; Opportunity To Request Administrative Review, 68 FR 39511 (July 2, 2003)). On July 28, 2003, Ugine & ALZ France, S.A., a French producer of subject merchandise, and petitioners (Allegheny Ludlum Corporation, AK Steel, Inc., North American Stainless, United Steelworkers of America, AFL-CIO/CLC, Butler Armco Independent Union and Zanesville Armco Independent Organization) requested the Department conduct an administrative review. On August 22, 2003, the Department published a notice of initiation of an administrative review of the antidumping duty order on subject merchandise, for the period July 1, 2002, through June 30, 2003 (see Initiation of Antidumping and Countervailing Duty Administrative Reviews and Request for Revocation in Part, 68 FR 50750 (August 22, 2003)). The preliminary results of this administrative review are currently due no later than April 1, 2004.

Extension of Time Limit for Preliminary Results

Pursuant to section 751(a)(3)(A) of the Act, and section 351.213(h)(2) of the Department's regulations, the Department may extend the deadline for completion of the preliminary results of a review if it determines that it is not practicable to complete the preliminary results within the statutory time limit of 245 days from the date on which the review was initiated. Due to the complexity of issues present in this administrative review, such as home market affiliated downstream sales, and complicated cost accounting issues, the Department has determined that it is not practicable to complete this review within the original time period provided in section 751(a)(3)(A) of the Act and section 351.213(h)(2) of the Department's regulations.

Therefore, we are extending the due date for the preliminary results by 120 days, until no later than July 31, 2004. The final results continue to be due 120 days after the publication of the preliminary results.

Dated: February 18, 2004.
Joseph A. Spetrini,
Deputy Assistant Secretary for Import Administration, Group III.

[FR Doc. 04-4296 Filed 2-25-04; 8:45 am]

BILLING CODE 3510-DS-P